DEPARTMENT OF JUSTICE

Antitrust Division

Notice Pursuant to the National Cooperative Research and Production Act of 1993—Southwest Research Institute (“SwRI”): Clean Diesel III

Notice is hereby given that, on January 12, 2000, pursuant to section 6(a) of the National Cooperative Research and Production Act of 1993, 15 U.S.C. 4301 et seq. (“the Act”), Southwest Research Institute (“SwRI”) has filed written notifications simultaneously with the Attorney General and the Federal Trade Commission disclosing (1) the identities of the parties and (2) the nature and objectives of the venture. The notifications were filed for the purpose of involving the Act's provisions limiting the recovery of antitrust plaintiffs to actual damages under specified circumstances. Pursuant to section 6(b) of the Act, the identities of the parties are Catepillar Inc., Peoria, IL; Cummins Engine Company, Columbus, IN; Eaton Corporation, Southfield, MI; Hyundai Motor Co., Kyunggi-Do, KOREA; Iveco Motorenforschung AG, Arbon, SWITZERLAND; John Deere Product Engineering Center, Deere and Company, Waterloo, IA: Komatsu Ltd., Tokyo, JAPAN; Peugeot Citroen Automobiles SA, Neuilly Sur Seine, FRANCE; Renault Vehicules Industriels, Saint-Priest, FRANCE, joined by its subsidiary Mack Trucks, Inc., Hagerstown, MD; Van Doorne's Bedrifswagenfabriek DAF B.V., Eindhoven, THE NETHERLANDS; and Volvo Truck Corp., Goteborg, SWEDEN. The nature and objectives of the venture are to achieve NOX and HC level of 0.5g/hp-hr and PM level of 0.01g/hp-hr over the U.S. transient heavy-duty test cycle, through the investigation of the following technologies: Optimization of a second generation system for cycle-resolved water injection; effect of water emulsion on post-combustion exhaust emission reduction devices; direct injection homogeneous charge compression ignition; variable valve actuation; model-based microprocessor based electronic control systems; development of individual valve train lubrication concept for friction and wear reduction; heavy-duty gasoline engine and advanced injection rate plus exhaust gas recirculation and the transfer of such technologies to the participants and the development of demonstrations engines.

Membership in this research group project remains open, and the participants intend to file additional written notification disclosing all changes in membership or planned activities.

Constance K. Robinson,
Director of Operations.

[FR Doc. 00-15999 Filed 6-23-00; 8:45 am]

BILLING CODE 4410-11-M